DEPARTMENT OF COMMERCE

International Trade Administration

[A-122-867, A-560-833, A-580-902, A-552-825]

Utility Scale Wind Towers From Canada, Indonesia, the Republic of Korea, and the Socialist Republic of Vietnam: Antidumping Duty Orders

AGENCY: Enforcement and Compliance, International Trade Administration, Department of Commerce.

SUMMARY: Based on affirmative final determinations by the Department of Commerce (Commerce) and the International Trade Commission (ITC), Commerce is issuing antidumping duty (AD) orders on utility scale wind towers (wind towers) from Canada, Indonesia, the Republic of Korea (Korea), and the Socialist Republic of Vietnam (Vietnam).

DATES: Applicable August 26, 2020.

FOR FURTHER INFORMATION CONTACT: Michael J. Heaney at (202) 482-4475 (Canada); Benjamin Luberda at (202) 482-2185 or Brittany Bauer at (202) 482-3860 (Indonesia); Adam Simons at (202) 482-6172 or David Goldberger at (202) 482-4136 (Korea); Joshua A. DeMoss at (202) 482-3362 (Vietnam); AD/CVD Operations, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), on July 6, 2020, Commerce published its affirmative final determinations in the less-than-fair-value (LTFV) investigations of wind towers from Canada, Indonesia, Korea, and Vietnam.¹ On August 19, 2020, the ITC notified Commerce of its final affirmative determinations that an industry in the United States is materially injured within the meaning of section 735(b)(1)(A)(i) of the Act, by reason of the LTFV imports of wind towers from Canada, Indonesia, Korea, and Vietnam, and its determinations that critical circumstances do not exist with respect to imports of subject merchandise from Korea and Vietnam that are subject to Commerce's affirmative critical circumstances findings.²

¹ See Utility Scale Wind Towers from Canada: Final Determination of Sales at Less Than Fair Value and Final Negative Determination of Critical Circumstances, 85 FR 40239 (July 6, 2020); Utility Scale Wind Towers from Indonesia: Final Determination of Sales at Less Than Fair Value and Final Negative Determination of Critical Circumstances, 85 FR 40231 (July 6, 2020); Utility Scale Wind Towers from the Republic of Korea: Final Determination of Sales at Less Than Fair Value and Final Affirmative Determination of Critical Circumstances, 85 FR 40243 (July 6, 2020); and Utility Scale Wind Towers from the Socialist Republic of Vietnam: Final Determination of Sales at Less Than Fair Value and Final Affirmative Determination of Critical Circumstances, 85 FR 40226 (July 6, 2020) (collectively, Final Determinations).

² See ITC's Letter, “Notification of ITC Final Determinations,” dated August 19, 2020 (ITC Notification Letter).

Scope of the Orders

The merchandise covered by these orders is wind towers from Canada, Indonesia, Korea, and Vietnam. For a complete description of the scope of the orders, see Appendices I and II to this notice.³

³ Appendix I contains the scope language for the Canada, Indonesia, and Korea AD orders. Appendix II contains the scope language for the Vietnam AD order.

Antidumping Duty Orders

On August 19, 2020, in accordance with sections 735(b)(1)(A)(i) and 735(d) of the Act, the ITC notified Commerce of its Final Determinations that an industry in the United States is materially injured by reason of imports of wind towers from Canada, Indonesia, Korea, and Vietnam and its determination that critical circumstances do not exist with respect to imports of subject merchandise from Korea and Vietnam that are subject to Commerce's affirmative critical circumstances finding.⁴ Therefore, Commerce is issuing these AD orders in accordance with sections 735(c)(2) and 736 of the Act. Because the ITC determined that imports of wind towers from Canada, Indonesia, Korea, and Vietnam are materially injuring a U.S. industry, unliquidated entries of such merchandise from Canada, Indonesia, Korea, and Vietnam, which are entered or withdrawn from warehouse for consumption, are subject to the assessment of antidumping duties.

⁴ See ITC Notification Letter.

As a result of the ITC's final affirmative determinations, in accordance with section 736(a)(1) of the Act, Commerce will direct U.S. Customs and Border Protection (CBP) to assess, upon further instruction by Commerce, antidumping duties equal to the amount by which the normal value of the merchandise exceeds the export price or constructed export price of the merchandise, for all relevant entries of wind towers from Canada, Indonesia, Korea, and Vietnam. For entries of wind towers from Canada, Indonesia, or Vietnam, the cash deposits for estimated antidumping duties will be adjusted for export subsidies found in the final determinations of the companion countervailing duty investigations.⁵ Antidumping duties will be assessed on unliquidated entries of wind towers from Canada, Indonesia, Korea, and Vietnam entered, or withdrawn from warehouse, for consumption on or after February 14, 2020, the date of publication of these Preliminary Determinations,⁶ but will not include entries occurring after the expiration of the provisional measures period and before publication in the Federal Register of the ITC's injury determination, as further described below.

⁵ See Final Determinations.

⁶ See Utility Scale Wind Towers from Canada: Preliminary Affirmative Determination of Sales at Less Than Fair Value, Preliminary Negative Determination of Critical Circumstances, Postponement of Final Determination, and Extension of Provisional Measures, 85 FR 8562 (February 14, 2020); Utility Scale Wind Towers from the Republic of Korea: Preliminary Affirmative Determination of Sales at Less Than Fair Value and Preliminary Affirmative Determination of Critical Circumstances, 85 FR 8560 (February 14, 2020); Utility Scale Wind Towers from Indonesia: Preliminary Affirmative Determination of Sales at Less Than Fair Value, Preliminary Negative Determination of Critical Circumstances, Postponement of Final Determination, and Extension of Provisional Measures, 85 FR 8558 (February 14, 2020); and Utility Scale Wind Towers from the Socialist Republic of Vietnam: Preliminary Affirmative Determination of Sales at Less-Than-Fair-Value and Preliminary Affirmative Determination of Critical Circumstances, 85 FR 8565 (February 14, 2020) (collectively, Preliminary Determinations).

Critical Circumstances

With regard to the ITC's negative critical circumstances determination on imports of wind towers from Korea and Vietnam, we will instruct CBP to lift suspension and to refund any cash deposits made to secure the payment of estimated antidumping duties with respect to entries of wind towers from Korea and Vietnam, entered or withdrawn from warehouse, for consumption on or after November 16, 2019 (i.e., 90 days prior to the date of the publication of the preliminary determinations), but before February 14, 2020 (i.e., the date of publication of the preliminary determinations for these investigations).

Continuation of Suspension of Liquidation

In accordance with section 736 of the Act, Commerce will instruct CBP to continue to suspend liquidation on all relevant entries of wind towers from Canada, Indonesia, Korea, and Vietnam as described in the Appendix to this notice which are entered, or withdrawn from warehouse, for consumption on or after the date of publication of the ITC's notice of final determination in the Federal Register. These instructions suspending liquidation will remain in effect until further notice.

We will also instruct CBP to require cash deposits equal to the amount as indicated below. Accordingly, effective on the date of publication in the Federal Register of the ITC's final affirmative injury determination, CBP will require, at the same time as importers would normally deposit estimated duties on this subject merchandise, a cash deposit equal to the cash deposit for estimated antidumping duties based on the ad valorem cash deposit rates listed below.⁷ The relevant all-others rates apply to all producers or exporters not specifically listed, as appropriate.

⁷ See section 736(a)(3) of the Act.

Estimated Weighted-Average Dumping Margins

The estimated weighted-average dumping margins for each AD order are as follows:

Exporter or producer | Estimated weighted-average dumping margin (percent) | Cash deposit rate (adjusted for subsidy offset(s)) (percent)
Canada
Marmen Inc./Marmen Énergie Inc | 4.94 | 4.94
All Others | 4.94 | 4.94
Indonesia
PT Kenertec Power System | 8.53 | 8.50
All Others | 8.53 | 8.50
Korea

Exporter or producer | Estimated weighted-average dumping margin (percent)
Dongkuk S&C Co., Ltd | 5.41
All Others | 5.41
Vietnam

CS Wind Vietnam Co., Ltd. a/k/a CS Wind Tower Co., Ltd. and CS Wind Corporation (collectively, the CS Wind Group) | 65.96 | 63.80

Provisional Measures

Section 733(d) of the Act states that suspension of liquidation pursuant to an affirmative preliminary determination may not remain in effect for more than four months, except that Commerce may extend the four-month period to no more than six months at the request of exporters representing a significant proportion of exports of the subject merchandise. At the request of exporters that account for a significant proportion of exports of wind towers from Canada, Indonesia, Korea, and Vietnam, we extended the four-month period to six months in the Preliminary Determinations published on February 14, 2020. Therefore, the extended period, beginning on the date of publication of the Preliminary Determinations, ended on August 12, 2020. Pursuant to section 737(b) of the Act, the collection of cash deposits at the rates listed above will begin on the date of publication of the ITC's final injury determination.

Therefore, in accordance with section 733(d) of the Act and our practice, we will instruct CBP to terminate the suspension of liquidation and to liquidate, without regard to antidumping duties, unliquidated entries of wind towers from Canada, Indonesia, Korea, and Vietnam entered, or withdrawn from warehouse, for consumption on or after August 13, 2020, the first day provisional measures were no longer in effect, until and through the day preceding the date of publication of the ITC's final injury determination in the Federal Register. Suspension of liquidation will resume on the date of publication of the ITC's final determination in the Federal Register.

Notification to Interested Parties

This notice constitutes the AD orders with respect to wind towers from Canada, Indonesia, Korea, and Vietnam pursuant to section 736(a) of the Act. Interested parties can find a list of AD orders currently in effect at http://enforcement.trade.gov/stats/iastats1.html.

These orders are issued and published in accordance with section 736(a) of the Act and 19 CFR 351.211(b).

Dated: August 20, 2020.
Jeffrey I. Kessler,
Assistant Secretary for Enforcement and Compliance.

Appendix I

Scope of the Orders on Canada, Indonesia, and Korea

The merchandise covered by these orders consists of certain wind towers, whether or not tapered, and sections thereof. Certain wind towers support the nacelle and rotor blades in a wind turbine with a minimum rated electrical power generation capacity in excess of 100 kilowatts and with a minimum height of 50 meters measured from the base of the tower to the bottom of the nacelle (i.e., where the top of the tower and nacelle are joined) when fully assembled.

A wind tower section consists of, at a minimum, multiple steel plates rolled into cylindrical or conical shapes and welded together (or otherwise attached) to form a steel shell, regardless of coating, end-finish, painting, treatment, or method of manufacture, and with or without flanges, doors, or internal or external components (e.g., flooring/decking, ladders, lifts, electrical buss boxes, electrical cabling, conduit, cable harness for nacelle generator, interior lighting, tool and storage lockers) attached to the wind tower section. Several wind tower sections are normally required to form a completed wind tower.

Wind towers and sections thereof are included within the scope whether or not they are joined with nonsubject merchandise, such as nacelles or rotor blades, and whether or not they have internal or external components attached to the subject merchandise.

Specifically excluded from the scope are nacelles and rotor blades, regardless of whether they are attached to the wind tower. Also excluded are any internal or external components which are not attached to the wind towers or sections thereof, unless those components are shipped with the tower sections.

Merchandise covered by these orders is currently classified in the Harmonized Tariff Schedule of the United States (HTSUS) under subheading 7308.20.0020 or 8502.31.0000. Wind towers of iron or steel are classified under HTSUS 7308.20.0020 when imported separately as a tower or tower section(s). Wind towers may be classified under HTSUS 8502.31.0000 when imported as combination goods with a wind turbine (i.e., accompanying nacelles and/or rotor blades). While the HTSUS subheadings are provided for convenience and customs purposes, the written description of the scope of these orders is dispositive.

Appendix II

Scope of the Order on Vietnam

The merchandise covered by this order consists of certain wind towers, whether or not tapered, and sections thereof. Certain wind towers support the nacelle and rotor blades in a wind turbine with a minimum rated electrical power generation capacity in excess of 100 kilowatts and with a minimum height of 50 meters measured from the base of the tower to the bottom of the nacelle (i.e., where the top of the tower and nacelle are joined) when fully assembled.

A wind tower section consists of, at a minimum, multiple steel plates rolled into cylindrical or conical shapes and welded together (or otherwise attached) to form a steel shell, regardless of coating, end-finish, painting, treatment, or method of manufacture, and with or without flanges, doors, or internal or external components (e.g., flooring/decking, ladders, lifts, electrical buss boxes, electrical cabling, conduit, cable harness for nacelle generator, interior lighting, tool and storage lockers) attached to the wind tower section. Several wind tower sections are normally required to form a completed wind tower.

Wind towers and sections thereof are included within the scope whether or not they are joined with nonsubject merchandise, such as nacelles or rotor blades, and whether or not they have internal or external components attached to the subject merchandise.

Specifically excluded from the scope are nacelles and rotor blades, regardless of whether they are attached to the wind tower. Also excluded are any internal or external components which are not attached to the wind towers or sections thereof, unless those components are shipped with the tower sections.

Further, excluded from the scope are any products covered by the existing antidumping duty order on utility scale wind towers from the Socialist Republic of Vietnam. See Utility Scale Wind Towers from the Socialist Republic of Vietnam: Amended Final Determination of Sales at Less Than Fair Value and Antidumping Duty Order, 78 FR 11150 (February 15, 2013).

Merchandise covered by these orders is currently classified in the Harmonized Tariff Schedule of the United States (HTSUS) under subheading 7308.20.0020 or 8502.31.0000. Wind towers of iron or steel are classified under HTSUS 7308.20.0020 when imported separately as a tower or tower section(s). Wind towers may be classified under HTSUS 8502.31.0000 when imported as combination goods with a wind turbine (i.e., accompanying nacelles and/or rotor blades). While the HTSUS subheadings are provided for convenience and customs purposes, the written description of the scope of these orders is dispositive.

[FR Doc. 2020-18792 Filed 8-25-20; 8:45 am]

BILLING CODE 3510-DS-P